ENVIRONMENTAL PROTECTION AGENCY

[FRL—10619-01-OA]

Notification of Public Meeting of the Science Advisory Board BenMAP and Benefits Methods Panel

AGENCY: Environmental Protection Agency (EPA).

ACTION: Notice.

SUMMARY: The Environmental Protection Agency (EPA) Science Advisory Board (SAB) Staff Office announces a public meeting of the Science Advisory Board BenMAP and Benefits Methods Panel. The purpose of the meeting is to discuss responses to charge questions on EPA's new cloud-based BenMAP model from EPA's Office of Air and Radiation and its Technical Support Document (TSD): Estimating PM2.5 and Ozone-Attributable Health Benefits (January 2023).

DATES: The public meeting of the SAB BenMAP and Benefits Methods Panel will be held on March 2, 2023, from 8:30 a.m. to 5:00 p.m. and on March 3, 2023, from 8:30 a.m. to 12:30 p.m. All Times are in Eastern Standard Time.

ADDRESSES: The meeting will be held at the Embassy Suites Hotel, located at 201 Harrison Oaks Boulevard in Cary, North Carolina 27513, and virtually. Please refer to the SAB website at https://sab.epa.gov for information on how to attend the meeting.

FOR FURTHER INFORMATION CONTACT: Any member of the public who wants further information concerning this notice may contact Dr. Holly Stallworth, Designated Federal Officer (DFO), via telephone (202) 564-2073, or email at stallworth.holly@epa.gov. General information about the SAB, as well as any updates concerning the meeting announced in this notice can be found on the SAB website at https://sab.epa.gov.

SUPPLEMENTARY INFORMATION:

Background: The SAB was established pursuant to the Environmental Research, Development, and Demonstration Authorization Act (ERDDAA), codified at 42 U.S.C. 4365, to provide independent scientific and technical advice to the EPA Administrator on the scientific and technical basis for agency positions and regulations. The SAB is a Federal Advisory Committee chartered under the Federal Advisory Committee Act (FACA), 5 U.S.C. app. 2. The SAB will comply with the provisions of FACA and all appropriate SAB Staff Office procedural policies. Pursuant to FACA and EPA policy, notice is hereby given that the Science Advisory Board BenMAP and Benefits Methods Panel will hold a public meeting to discuss charge questions related to the BenMAP model and TSD.

Availability of Meeting Materials: All meeting materials, including the agenda will be available on the SAB web page at https://sab.epa.gov.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should follow the instructions below to submit comments.

Oral Statements: In general, individuals or groups requesting an oral presentation at a meeting will be limited to three minutes. Each person making an oral statement should consider providing written comments as well as their oral statement so that the points presented orally can be expanded upon in writing. Persons interested in providing oral statements should contact the DFO, in writing (preferably via email) at the contact information noted above by February 22, 2023, to be placed on the list of registered speakers.

Written Statements: Written statements will be accepted throughout the advisory process; however, for timely consideration by SAB members, statements should be submitted to the DFO by February 22, 2023, for consideration at the March 2-3, 2023 meeting. Written statements should be supplied to the DFO at the contact information above. It is the SAB Staff Office general policy to post written comments on the web page for the meeting. Submitters are requested to provide an unsigned version of each document because the SAB Staff Office does not publish documents with signatures on its websites.

Members of the public should be aware that their personal contact information, if included in any written comments, may be posted to the SAB website. Copyrighted material will not be posted without explicit permission of the copyright holder.

Accessibility: For information on access or services for individuals with disabilities, please contact Holly Stallworth, at 202.564.2073 or stallworth.holly@epa.gov, preferably at least ten days prior to the meeting, to give the EPA as much time as possible to process your request.

V Khanna Johnston,
Deputy Director, Science Advisory Board Staff Office.

[FR Doc. 2023-02372 Filed 2-3-23; 8:45 am]

BILLING CODE 6560-50-P